DEPARTMENT OF HOMELAND SECURITY

Coast Guard

33 CFR Part 165

[Docket Number USCG-2025-0776]

RIN 1625-AA00

Safety Zone; Atlantic Ocean, Wrightsville Beach, NC

AGENCY: Coast Guard, DHS.

ACTION: Temporary final rule.

SUMMARY: The Coast Guard is establishing a temporary safety zone for certain waters of the Atlantic Ocean near the Wrightsville Beach, NC waterfront. This action is necessary to provide for the safety of life on these navigable waters during an air show, consisting of civilian and military aircraft flyovers, on October 02, 2025. This rule prohibits persons and vessels from being in the safety zone unless authorized by the Captain of the Port, Sector North Carolina or a designated representative.

DATES: This rule is effective from 4:30 p.m. to 6:30 p.m. on October 2, 2025.

ADDRESSES: To view available documents go to https://www.regulations.gov and search for USCG-2025-0776.

FOR FURTHER INFORMATION CONTACT: If you have questions about this rulemaking, call or email Lieutenant Shay Hutchings, Waterways Management Division Chief, U.S. Coast Guard Sector North Carolina; telephone 571-610-0084, email shay.p.hutchings@uscg.mil.

SUPPLEMENTARY INFORMATION:

I. Table of Abbreviations

CFR Code of Federal Regulations

DHS Department of Homeland Security

COTP Captain of the Port, Sector North Carolina

FR Federal Register

NPRM Notice of proposed rulemaking

§ Section

U.S.C. United States Code

II. Background, Purpose, and Legal Basis

The Coast Guard has received notice that an air show near Wrightsville Beach, NC, consisting of civilian and military aircraft flyovers, will take place from 4:30 p.m. to 6:30 p.m. on October 02, 2025. Because air shows include high speed and low-level aircraft aerobatics, potential hazards associated with the aircraft flyovers pose a safety concern to anyone beneath the performing aircraft. The Captain of the Port, Sector North Carolina (COTP) is therefore establishing a safety zone consisting of a 5,000 foot by 2,500 foot aerobatic box, over the waterfront area of Wrightsville Beach, NC to ensure the safety of vessels and the navigable waters within the designated safety zone before, during, and after the scheduled event. The Coast Guard is issuing this rule under authority in 46 U.S.C. 70034.

The Coast Guard is issuing this rule without prior notice and comment. As is authorized by 5 U.S.C. 553(b)(B), the Coast Guard finds that good cause exists for not publishing a notice of proposed rulemaking (NPRM) with respect to this rule because it is impracticable to do so. There is insufficient time to solicit and respond to comments if the rule is to be in place by Oct. 2.

In addition, as there are less than 30 days between publication of this rule and Oct. 2, it is impracticable to delay the effective date of the rule by 30 days. Therefore, the Coast Guard also finds that under 5 U.S.C. 553(d)(3), good cause exists for making this rule effective less than 30 days after publication in the FR.

III. Discussion of the Rule

The COTP is establishing a safety zone from 4:30 p.m. to 6:30 p.m. on October 02, 2025. The safety zone would cover all navigable waters within a 5,000 foot by 2,500 foot aerobatic box located near the waterfront area of Wrightsville Beach, NC. The duration of the zone is intended to ensure the safety of vessels and these navigable waters before, during, and after the scheduled 4:30 p.m. to 6:30 p.m. air show display. No vessel or person will be permitted to enter the safety zone without obtaining permission from the COTP or a designated representative. To seek permission to enter, contact the COTP or the COTP's representative by calling the Sector North Carolina Command Center at phone number 833-732-8628. The regulatory text of the rule appears at the end of this document.

IV. Regulatory Analyses

We developed this rule after considering numerous statutes and Executive orders related to rulemaking. Below we summarize our analyses based on a number of these statutes and Executive orders.

A. Impact on Small Entities

The regulatory flexibility analysis provisions of the Regulatory Flexibility Act of 1980, 5 U.S.C. 601-612, do not apply to rules that are not subject to notice and comment. Because the Coast Guard has, for good cause, waived the notice and comment requirement that would otherwise apply to this rulemaking, the Regulatory Flexibility Act's flexibility analysis provisions do not apply here.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments to the Small Business and Agriculture Regulatory Enforcement Ombudsman and the Regional Small Business Regulatory Fairness Boards by calling 1-888-REG-FAIR (1-888-734-3247). The Coast Guard will not retaliate against small entities that question or complain about this rule or any policy or action of the Coast Guard.

B. Collection of Information

This rule would not call for a new collection of information under the Paperwork Reduction Act of 1995 (44 U.S.C. 3501-3520).

C. Federalism and Indian Tribal Governments

A rule has implications for federalism under Executive Order 13132 (Federalism), if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175 (Consultation and Coordination with Indian Tribal Governments) because it does not have a substantial direct effect on one or more Indian tribes, on the relationship between the Federal Government and Indian tribes, or on the distribution of power and responsibilities between the Federal Government and Indian tribes.

D. Unfunded Mandates Reform Act

As required by The Unfunded Mandates Reform Act of 1995 (2 U.S.C. 1531-1538), the Coast Guard certifies that this rule will not result in an annual expenditure of $100,000,000 or more (adjusted for inflation) by a State, local, or tribal government, in the aggregate, or by the private sector.

E. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule is a safety zone lasting 2 hours that prohibits entry within a 5,000 foot by 2,500 foot aerobatic box on the waterfront area of Wrightsville Beach, NC. It is categorically excluded from further review under paragraph L60(a) of Appendix A, Table 1 of DHS Instruction Manual 023-01-001-01, Rev. 1. A Record of Environmental Consideration supporting this determination is available in the docket. To view documents mentioned in this rule as being available in the docket, find the docket as described in the ADDRESSES paragraph, and then select “Supporting & Related Material” in the Document Type column.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Add § 165.T05-0776 to read as follows:

§ 165.T05-0776 Safety Zone; Air Show within the Captain of the Port, North Carolina Zone.

(a) Location. The following area is a safety zone: All waters of the Atlantic Ocean, from surface to bottom, encompassed by a line connecting the following points beginning at 34°12′29″ N, 77°47′32″ W; thence to 34°12′15″ N, 77°47′07″ W; thence to 34°11′36″ N, 77°47′38″ W; thence to 34°11′48″ N, 77°48′04″ W, and along the shoreline back to the beginning point, marked by a combination of stationary and anchored markers. These coordinates are based on WGS 84.

(b) Definitions. As used in this section, designated representative means a Coast Guard Patrol Commander, including a Coast Guard coxswain, petty officer, or other officer operating a Coast Guard vessel and a Federal, State, and local officer designated by or assisting the Captain of the Port, Sector North Carolina (COTP) in the enforcement of the safety zone.

(c) Regulations. (1) Under the general safety zone regulations in subpart C of this part, you may not enter the safety zone described in paragraph (a) of this section unless authorized by the COTP or the COTP's designated representative.

(2) To seek permission to enter, contact the COTP or the COTP's representative by calling the Sector North Carolina Command Center at phone number 833-732-8628. Those in the safety zone must comply with all lawful orders or directions given to them by the COTP or the COTP's designated representative.

(d) Enforcement period. This section will be enforced from 4:30 p.m. to 6:30 p.m. on October 2, 2025.

T.J. List,
Captain, U.S. Coast Guard, Captain of the Port, Sector North Carolina.

[FR Doc. 2025-18272 Filed 9-19-25; 8:45 am]

BILLING CODE 9110-04-P